DEPARTMENT OF DEFENSE

Department of the Navy

Revised Notice of Intent To Prepare an Environmental Impact Statement for Military Training Activities at the Naval Weapons Systems Training Facility Boardman, OR, and Notice of Request for Public Scoping Comments

AGENCY: Department of the Navy, DoD.

ACTION: Notice.

SUMMARY: This notice is to advise the public that the Department of the Navy (DoN) is revising the scope for the Environmental Impact Statement (EIS) for continued and increased training activities on Naval Weapons Systems Training Facility (NWSTF) Boardman, Oregon, and to invite the public to provide comments for consideration during preparation of the revised EIS.

This revised Notice of Intent has been published because since the October 5, 2010 publication of the original Notice of Intent in the Federal Register (75 FR 61452), the DoN is modifying its proposed action to include the addition of new Special Use Airspace in the form of a Military Operations Area (MOA). This new MOA would preserve required training capabilities at NWSTF Boardman that are necessary to maintain military readiness. Additional information concerning the proposed new MOA, including a map, is available on the NWSTF Boardman EIS Web page located at: http://www.NWSTFBoardmanEIS.com.

FOR FURTHER INFORMATION CONTACT: Mrs. Amy Burt, Naval Facilities Engineering Command Northwest, 1101 Tautog Circle, Suite 203, Silverdale, Washington, 98315-1101, Attn: NWSTF Boardman Project Manager.

SUPPLEMENTARY INFORMATION: The overall strategic mission of NWSTF Boardman is to support naval and joint services operational readiness by providing a suitable range within the geographical vicinity for Commander, U.S. Pacific Fleet and Oregon National Guard forces in the northwest. The development of structures of significant height on lands beneath the existing Special Use Airspace associated with NWSTF Boardman has resulted, and may continue to result, in the potential loss of ability to train at the range. To alleviate this situation, the DoN is proposing to add a new MOA to the northeast of the existing Special Use Airspace at NWSTF Boardman for the purpose of preserving training capabilities at the range that are necessary to maintain military readiness, including the capability to continue low altitude training. Adding the MOA would be consistent with the DoN's proposed action at NWSTF Boardman announced on October 5, 2010, which included range enhancements and changes to training activities, capacities, and facilities as they currently exist.

The new Boardman Northeast MOA would have two parts, A and B, with the current Boardman Air Traffic Control Assigned Airspace (ATCAA) being extended to include the area above the new MOA and to facilitate scheduling use of the airspace. The floor of MOA A would begin at 500 feet Above Ground Level (AGL) and extend upwards to, but not including, 4,000 feet above Mean Sea Level (MSL). MOA A would overlap a portion of existing Restricted Airspace R-5706 that starts at 3,500 feet MSL and underlie the existing MOA (Boardman MOA) that starts at 4,000 feet MSL to the northeast of the NWSTF Boardman property. The floor of MOA B airspace would begin at 4,000 feet MSL and extend upwards to, but not including, 18,000 feet MSL, and would abut the existing Boardman MOA. The dimensions of the Boardman Northeast MOA would be approximately 11 nautical miles west to east and approximately five nautical miles north to south. The extension of the ATCAA would be approximately six nautical miles west to east and approximately five nautical miles north to south.

Hours of operations for the new MOA would be the same as the existing Boardman MOA, 7:30 a.m. to 11:59 p.m. Monday through Friday and at other times by notice to Airman six hours in advance. Civilian or other nonparticipating air traffic flying with an air traffic control clearance and under instrument flight rules (IFR) will be restricted from entering the Northeast MOA when it is in use by the military. Civilian or other nonparticipating air traffic flying under visual flight rules (VFR) would be informed of Northeast MOA activation and advised to avoid the area; however, it is not compulsory that civilian or other nonparticipating air traffic flying under VFR, or under IFR without air traffic control clearance, remain clear of the area.

The Boardman ATCAA would permit the continuation of flight activities above the new MOA and 18,000 feet MSL. Aircraft flying under VFR will not be permitted to enter the Boardman ATCAA when active. The ATCAA is not depicted on aeronautical charts.

The proposed Northeast MOA would be established by the Federal Aviation Administration (FAA) according to authority given to the FAA under 49 U.S. Code (U.S.C.) Section 40103. In regulations found at 14 CFR 73.1 et seq. and FAA Joint Order 7400.2H, Procedures for Handling of Airspace, FAA sets forth the procedures for establishing various types of Special Use Airspace, including MOAs. According to FAA Order 1050.1E, Change 1, Environmental Impacts: Policies and Procedures, and a Memorandum of Understanding (MOU) between the Department of Defense and FAA signed October 4, 2005, since the DoN proposes the designation of the MOA, DoN will serve as lead agency under the National Environmental Policy Act and invite FAA as a cooperating agency. That MOU indicates that “the resultant environmental documents of the lead agency are accepted and used in decisions and planning by all agencies involved with the proposed action.” Therefore, once the EIS is complete and DoN has made its decision on whether to proceed with a designation request, the FAA will then proceed with their airspace designation process, described in the above-mentioned authorities.

The new MOA would be analyzed in Alternatives 1 and 2, both of which would support an increase in training activities. In addition to the new MOA, Alternative 1 would include force structure changes associated with the introduction of new weapon systems, vehicles and aircraft, in addition to accommodating training activities currently conducted on the range. Alternative 1 would also include the implementation of range enhancements to allow NWSTF Boardman to comply with DoN and National Guard requirements to enable military personnel to qualify on weapon systems. These required range enhancements could include the construction of a Multi-Purpose Machine Gun Range, a Digital Multi-Purpose Training Range, a Convoy Live Fire Training Range, a Demolition Training Range and construction of a joint range operations center/Unmanned Aerial System (UAS) maintenance building and UAS landing strip.

Alternative 2 would consist of all elements of Alternative 1 plus the addition of a second Convoy Live Fire Training Range and construction of a separate range operations center building, independent of the UAS maintenance building and UAS landing strip. The No Action Alternative remains unchanged.

The DoN is reopening the scoping period to identify new community concerns and local issues to be addressed in the EIS as a result of the proposal to request establishment of a new MOA at NWSTF Boardman. Scoping comments previously submitted following publication of the original October 5, 2010 Notice of Intent are still valid and need not be resubmitted. The DoN encourages Federal, state, and local agencies, Federally Recognized Native American Tribes, the public and all interested persons to provide written or electronic comments to the DoN to identify any new specific environmental issues or topics of environmental concern related to the DoN's proposal to include designation of a new MOA as part of the proposed action.

Written comments must be postmarked no later than January 26, 2012. Comments should be mailed to Mrs. Amy Burt, Naval Facilities Engineering Command, Northwest, 1101 Tautog Circle, Suite 203, Silverdale, Washington 98315-1101, Attn: NWSTF Boardman EIS Project Manager. Comments may also be submitted on the project Web site, www.NWSTFBoardmanEIS.com.

Dated: December 16, 2011.
L.M. Senay,
Lieutenant, Office of the Judge Advocate General, U.S. Navy, Alternate Federal Register Liaison Officer.

[FR Doc. 2011-33086 Filed 12-23-11; 8:45 am]

BILLING CODE 3810-FF-P